DEPARTMENT OF TRANSPORTATION

Federal Aviation Administration

14 CFR Part 39

[Docket No. 99-CE-63-AD; Amendment 39-12185; AD 2001-08-08]

RIN 2120-AA64

Airworthiness Directives; Raytheon Aircraft Company Beech Models 35-C33A, E33A, E33C, F33A, F33C, S35, V35, V35A, V35B, 36, and A36 Airplanes

AGENCY: Federal Aviation Administration, DOT.

ACTION: Final rule.

SUMMARY: This amendment adopts a new airworthiness directive (AD) that applies to all Raytheon Aircraft Company (Raytheon) Beech Models 35-C33A, E33A, E33C, F33A, F33C, S35, V35, V35A, V35B, 36, and A36 airplanes that incorporate a certain Teledyne Continental engine configuration. This AD requires you to repetitively replace the existing Aeroquip V-band exhaust clamp. The actions specified by this AD are intended to prevent the tailpipe from detaching from the turbocharger due to failure of the V-band exhaust clamp. Clamp failure could result in the release of high temperature gases inside the engine compartment with the potential for a consequent fire in the engine compartment.

EFFECTIVE DATE: This AD becomes effective on June 7, 2001.

ADDRESSES: You may get the service documents referenced in this AD from Tornado Alley Turbo, Inc., 300 Airport Road, Ada, Oklahoma 74820; telephone: toll free 1-877-359-8284, or (580) 332-3510; facsimile: (580) 332-4577. You may examine this information at the Federal Aviation Administration (FAA), Central Region, Office of the Regional Counsel, Attention: Rules Docket No. 99-CE-63-AD, 901 Locust, Room 506, Kansas City, Missouri 64106.

FOR FURTHER INFORMATION CONTACT: Mr. Peter W. Hakala, Aerospace Engineer, FAA, Rotorcraft Directorate, Special Certification Office, 2601 Meacham Boulevard, Fort Worth, Texas 76193-0190; telephone: (817) 222-5145; facsimile: (817) 222-5785.

SUPPLEMENTARY INFORMATION:

Discussion

What events have caused this AD? The FAA has received reports of two instances where an Aeroquip V-band exhaust clamp (Aeroquip part number (P/N) 4404C375-M) failed on Raytheon Models Beech A36 airplanes. This V-band exhaust clamp is part of the installation configuration of Tornado Alley Turbo, Inc. Supplemental Type Certificate (STC) SA5223NM and STC SE5222NM. The incorporation of these STC's installs a Teledyne Continental engine equipped with a turbonormalizing system on Raytheon Beech Models 35-C33A, E33A, E33C, F33A, F33C, S35, V35, V35A, V35B, 36, and A36 airplanes. The V-band exhaust clamp, P/N 4404C375-M, attaches the tailpipe to the turbocharger.

What are the consequences if the condition is not corrected? The tailpipe detaching from the turbocharger could result in the release of high temperature gases inside the engine compartment with the potential for a consequent fire in the engine compartment.

Has FAA taken any action to this point? We issued a proposal to amend part 39 of the Federal Aviation Regulations (14 CFR part 39) to include an AD that would apply to all Raytheon Beech Models 35-C33A, E33A, E33C, F33A, F33C, S35, V35, V35A, V35B, 36, and A36 airplanes that incorporate a certain Teledyne Continental engine configuration. This proposal was published in the Federal Register as a notice of proposed rulemaking (NPRM) on October 18, 2000 (65 FR 62315). The NPRM proposed to require you to repetitively replace the V-band exhaust clamp, Aeroquip P/N 4404C375-M.

Was the public invited to comment? The FAA encouraged interested persons to participate in the making of this amendment. A summary of the comments on the NPRM from the one commenter follows, along with FAA's responses.

Comment Issue No. 1: Add the Model 35-G33 to the AD Applicability

What is the commenter's concern? The commenter requests that FAA add the Model 35-G33 airplane to the AD applicability. This commenter states that STC SA5223NM applies to the Model 35-G33 airplanes.

What is FAA's response to the concern? The FAA concurs that the STC applies to the Model 35-G33 airplanes. This airplane model was added to STC SA5223NM on August 31, 2000. Part of that change called for the installation of a tailpipe support on the Model 35-G33 airplanes. This tailpipe support installation eliminates the need for the actions of this AD for the Model 35-G33 airplanes. Therefore, we are not adding the Model 35-G33 airplanes to the AD applicability.

Comment Issue No. 2: Change Reference of Exhaust Stack to Tailpipe in the AD

What is the commenter's concern? The commenter believes that the pipe downstream of the turbocharger should be referred to as the tailpipe. The FAA referred to it as the exhaust stack in the NPRM.

What is FAA's response to the concern? We will change all reference of the exhaust stack to tailpipe in the final rule AD action.

Comment Issue No. 3: Change the Aeroquip V-Band Exhaust Clamp Part Number

What is the commenter's concern? The commenter states that FAA should reference the Aeroquip V-band exhaust clamp as part number 4404C375-M instead of 00624-4404C375-M. The clamp is referred to as part number 4404C375-M in the service information.

What is FAA's response to the concern? The FAA referenced the Aeroquip V-band exhaust clamp as part number 00624-4404C375-M because that part number actually appears on the clamp. We have determined that part number 4404C375-M is sufficient to identify the affected V-band exhaust clamp.

We are changing the final rule AD action accordingly.

Comment Issue No. 4: Correct the STC Holder's Phone Number

What is the commenter's concern? The commenter states that the phone number of the STC holder, Tornado Alley Turbo, Inc., has changed. The commenter requests that FAA incorporate this new phone number, 1-877-359-8284, into the AD.

What is FAA's response to the concern? We will change the phone number accordingly in the final rule AD action.

The FAA's Determination

What is FAA's Final Determination on this Issue? After careful review of all available information related to the subject presented above, we have determined that air safety and the public interest require the adoption of the rule as proposed except for minor editorial corrections. We determined that these minor corrections:

—Will not change the meaning of the AD; and

—Will not add any additional burden upon the public than was already proposed.

Cost Impact

How many airplanes does this AD impact? We estimate that this AD affects 180 airplanes in the U.S. registry.

What is the cost impact of this AD on owners/operators of the affected airplanes? We estimate the following costs to accomplish each repetitive replacement:

Labor cost | Parts cost | Total cost per airplane | Total cost on U.S. airplane operators
2 workhours × $60 per hour = $120 | $50 per airplane | $120 + $50 = $170 per airplane | $170 × 180 = $30,600.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-08-08 Raytheon Aircraft Company (The Beech Aircraft Corporation previously was the holder of Type Certificate 3A15): Amendment 39-12185; Docket No. 99-CE-63-AD.

(a) What airplanes are affected by this AD? Models Beech 35-C33A, E33A, E33C, F33A, F33C, S35, V35, V35A, V35B, 36, and A36 airplanes, all serial numbers, that:

(1) Are certificated in any category;

(2) Incorporate a Teledyne Continental engine equipped with a turbonormalizing system; and

(3) Have Tornado Alley Turbo, Inc. Supplemental Type Certificate (STC) SA5223NM and STC SE5222NM incorporated.

Note 1: Cessna 185 series airplanes could have the subject clamp installed through the incorporation of Tornado Alley Turbo, Inc. STC SE00214DE and STC SE00215DE. The FAA has determined that the cracks at the weld spots in the V-band clamps are occurring because of the specific configuration of the Raytheon airplanes. We have received no reports of service problems with the affected V-band clamps installed on Cessna 185 series airplanes.

(b) Who must comply with this AD? Anyone who wishes to operate any of the above airplanes must comply with this AD.

(c) What problem does this AD address? The actions required by this AD are intended to prevent the tailpipe from detaching from the turbocharger due to failure of the V-band exhaust clamp. This could result in the release of high temperature gases inside the engine compartment with the potential for a consequent fire in the engine compartment.

(d) What actions must I accomplish to address this problem? To address this problem, you must accomplish the following:

Actions | Compliance times | Procedures
Repetitively replace the V-band exhaust clamp, Aeroquip part number 4404C375-M | Upon accumulating 400 hours time-in-service (TIS) after incorporating Tornado Alley Turbo, Inc. STC SA5223NM and STC SE5222NM on the airplane or within the next 25 hours TIS after June 7, 2001 (the effective date of this AD), whichever occurs later, and thereafter at intervals not to exceed 400 hours TIS | Use the procedures in the Turbo-Flite™ 520/550 System Maintenance and Troubleshooting manual. Tornado Alley Turbo, Inc. Mandatory Service Bulletin Number TAT 98-1, dated November 21, 1998, references these replacements and procedures.

(e) Can I comply with this AD in any other way? You may use an alternative method of compliance or adjust the compliance time if:

(1) Your alternative method of compliance provides an equivalent level of safety; and

(2) The Manager, Rotorcraft Directorate, Special Certification Office, approves your alternative. Submit your request through an FAA Principal Maintenance Inspector, who may add comments and then send it to the Manager, Rotorcraft Directorate, Special Certification Office, 2601 Meacham Boulevard, Fort Worth, Texas 76193-0190.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Mr. Peter Hakala, Aerospace Engineer, FAA, Rotorcraft Directorate, Special Certification Office, 2601 Meacham Boulevard, Fort Worth, Texas 76193-0190; telephone: (817) 222-5145; facsimile: (817) 222-5785.

(g) What if I need to fly the airplane to another location to comply with this AD? The FAA can issue a special flight permit under sections 21.197 and 21.199 of the Federal Aviation Regulations (14 CFR 21.197 and 21.199) to operate your airplane to a location where you can accomplish the requirements of this AD.

(1) In order for this permit to be granted, the airplane must pass the push/pull test specified in Tornado Alley Turbo, Inc., Mandatory Service Bulletin Number TAT 98-1, dated November 21, 1998.

(2) Anyone who holds at least a private pilot certificate, as authorized by section 43.7 of the Federal Aviation Regulations (14 CFR 43.7), may accomplish the push/pull test referenced in paragraph (g)(1) of this. You must make an entry into the aircraft records that shows compliance with this portion of the AD, in accordance with section 43.9 of the Federal Aviation Regulations (14 CFR 43.9).

(h) How do I get copies of the documents referenced in this AD? You may obtain a copy of the service documents referenced in this AD from Tornado Alley Turbo, Inc., 300 Airport Road, Ada, Oklahoma 74820; telephone: toll free 1-877-359-8284, or (580) 332-3510; facsimile: (580) 332-4577; or you may examine this document at FAA, Central Region, Office of the Regional Counsel, 901 Locust, Room 506, Kansas City, Missouri 64106.

(i) When does this amendment become effective? This amendment becomes effective on June 7, 2001.

Issued in Kansas City, Missouri, on April 12, 2001.
Michael Gallagher,
Manager, Small Airplane Directorate, Aircraft Certification Service.

[FR Doc. 01-9750 Filed 4-19-01; 8:45 am]

BILLING CODE 4910-13-P